DEPARTMENT OF AGRICULTURE

Food Safety and Inspection Service

[Docket No. FSIS-2021-0031]

Notice of Request for a New Information Collection: Analyzing Consumers' Value of “Product of USA” Labeling Claims

AGENCY: Food Safety and Inspection Service, USDA.

ACTION: Notice and request for comments.

SUMMARY: In accordance with the Paperwork Reduction Act of 1995 and Office of Management and Budget (OMB) regulations, the Food Safety and Inspection Service (FSIS) is announcing its intention to collect information using a web-based survey/experiment to help gauge consumer awareness and understanding of current “Product of USA” labeling claims on meat (beef and pork) products and consumer willingness to pay (WTP) for meat products labeled as “Product of USA” using the current and potentially revised definitions of the claim. FSIS also intends to collect information on consumer understanding of other “USDA” labeling on meat products, such as the “USDA Choice” label and the USDA mark of inspection. This is a new information collection with an estimated annual burden of 1,815.1 hours.

DATES: Submit comments on or before April 4, 2022.

ADDRESSES: FSIS invites interested persons to submit comments on this Federal Register notice. Comments may be submitted by one of the following methods:

• Federal eRulemaking Portal: This website provides commenters the ability to type short comments directly into the comment field on the web page or to attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Washington, DC 20250-3700.

Instructions: All items submitted by mail or electronic mail must include the Agency name and docket number FSIS-2021-0031. Comments received in response to this docket will be made available for public inspection and posted without change, including any personal information, to https://www.regulations.gov.

Docket: For access to background documents or comments received, call (202) 205-0495 to schedule a time to visit the FSIS Docket Room at 1400 Independence Avenue SW, Washington, DC 20250-3700.

FOR FURTHER INFORMATION CONTACT: Gina Kouba, Office of Policy and Program Development, Food Safety and Inspection Service, USDA, 1400 Independence Avenue SW, Mailstop 3758, South Building, Washington, DC 20250-3700; (202) 720-5627.

SUPPLEMENTARY INFORMATION:

Title: Analyzing Consumers' Value of “Product of USA” Labeling Claims.

OMB Number: 0583-XXXX.

Type of Request: Request for a new information collection.

Abstract: FSIS has been delegated the authority to exercise the functions of the Secretary (7 CFR 2.18, 2.53), as specified in the Federal Meat Inspection Act (FMIA) (21 U.S.C. 601, et seq.). This statute mandates that FSIS protect the public by verifying that meat products are safe, wholesome, unadulterated, and properly labeled and packaged.

The FSIS Food Standards and Labeling Policy Book (the “Policy Book”) provides guidance to help meat and poultry product manufacturers prepare product labels that are truthful and not misleading. The Policy Book states that meat (beef and pork) labeling may bear the phrase “Product of USA” under one of the following conditions:

(1) if the country to which the product is exported requires this phrase, and the product is processed in the United States or

(2) if the product is processed in the United States (i.e., is of domestic origin).

Accordingly, the “Product of USA” labeling claim may be applied to meat products derived from animals that have been imported from a foreign country but slaughtered in the United States, as well as to meat products that have been imported from a foreign country and repackaged or otherwise further processed in the United States.

USDA has received three petitions from industry associations regarding the origin of meat products bearing the “Product of USA” labeling claim, requesting that the meaning of the claim be publicly revised by USDA. Additionally, in August 2021, bills were introduced in the House of Representatives and the Senate to require that cattle be born, raised, and slaughtered in the United States in order to bear the “Product of USA” labeling claim. To address the concern that the “Product of USA” labeling claim may not accurately reflect consumer understanding about the origin of FSIS-regulated products, FSIS intends to initiate rulemaking after conducting a comprehensive review of the current voluntary “Product of USA” labeling claim.

To provide information needed to support rulemaking, FSIS is requesting approval for a new information collection to conduct a consumer web-based survey/experiment on “Product of USA” labeling on meat (beef and pork) products. FSIS has not previously conducted consumer research on this topic. This is a new information collection with an estimated annual burden of 1,815.1 hours.

The web survey/experiment will address three primary research questions: (1) Do consumers notice the “Product of USA” labeling claim?; (2) Do consumers understand the current “Product of USA” definition and other “USDA” labeling (e.g., “USDA Choice”) as it relates to country of origin?; and (3) How much are consumers willing to pay for meat products bearing the “Product of USA” labeling claim for the current definition and potential revised definitions (e.g., if the meat were from an animal that was born, raised, slaughtered, and processed in the United States)?

FSIS has contracted with RTI International to conduct the web-based survey/experiment. The web-based survey/experiment will comprise three components. For the first component, respondents will complete a series of limited time exposure tasks (LTE) to measure their extrinsic value (i.e., saliency) of the “Product of USA” labeling claim. Respondents will view up to six mock products that vary in terms of whether the “Product of USA” claim is present, and if present, the location and formatting of the “Product of USA” claim. Respondents will be exposed to each mock product for a limited time (e.g., 20 seconds) then asked to list what labeling features they recall (unaided) and then to answer a series of recognition questions to indicate whether they saw specific images and phrases (including the “Product of USA” claim) or not. Responses will be statistically analyzed to determine respondents' saliency or degree of attention for the “Product of USA” labeling claim.

For the second component, respondents will answer survey questions to address (1) their understanding of the current “Product of USA” labeling claim as it relates to product country of origin (e.g., born, raised, slaughtered, processed) and (2) their understanding of the meaning of other “USDA” labeling such as “USDA Choice” or the USDA mark of inspection, as related to product country of origin.

For the third component, respondents will complete a discrete choice experiment (DCE) to measure their intrinsic value (WTP) for meat products bearing the “Product of USA” labeling claim for the current definition and potential revised definitions (e.g., the meat is from an animal that was both slaughtered and processed in the United States). Respondents will complete 8 to 10 choice questions in which they are asked to choose between two hypothetical products; for example, two ground beef products that differ based on the following attributes: Price ($/lb), definition for a “Product of USA” labeling claim, and the presence or absence of the following claims (e.g., breed, diet, production conditions, raising conditions, and freshness). Responses will be statistically analyzed to determine respondents' WTP for the current definition and potential revised definitions of the voluntary “Product of USA” labeling claim.

To administer the survey, RTI will partner with Ipsos' KnowledgePanel, a probability-based panel that is designed to be nationally representative of the U.S. adult population, with panel members recruited using address-based sampling and weighting procedures to provide nationally representative estimates. Ipsos will select a sample that is sufficient to yield 4,400 responses (including 300 people who generally speak Spanish at home).

A selected sample of panel members will be invited to participate in the study via email. Surveyed individuals will be adults (18 years of age and older) who speak English or Spanish (the survey will be translated into Spanish), have primary or shared responsibility for grocery shopping for their household, and are purchasers of meat products.

Up to eight cognitive interviews will be conducted to evaluate and refine the survey instrument before receiving OMB approval. After receiving OMB approval, Ipsos will conduct a pilot study to ensure that programming logic for the online survey is correct before the full-scale study is implemented. Participants will receive a $50 incentive for participating in the cognitive interviews and a $5 (equivalent) incentive for participating in the pilot or full-scale study.

Estimate of Burden: Participants will be recruited for the cognitive interviews by posting ads on social media. It is expected that 12 individuals will complete a screener to determine eligibility for the cognitive interviews, with eight completing the cognitive interview. The cognitive interviews are expected to last 60 minutes. For the pilot study, it is expected that 83 panel members selected by Ipsos will receive email invitations and that 30 of the eligible panel members will subsequently complete the questionnaire. For the full-scale study, it is expected that 9,778 panel members selected by Ipsos will receive email invitations and that 4,400 of the eligible panel members will subsequently complete the questionnaire. The email invitation for the pilot study and the full-scale study is expected to take 2 minutes to read. The questionnaire is expected to take 20 minutes to complete. The total estimated burden of the web-based survey/experiment is 1,815.1 hours.

Estimated Annual Reporting Burden for the Web-Based Survey/Experiment
Study component | Sample size | Freq | Responses: Count | Responses: Freq X count | Responses: Min/resp | Responses: Burden hours | Non-responses: Count | Non-responses: Freq X count | Non-responses: Min/resp | Non-responses: Burden hours | Total burden hours
Cognitive Interviews:
Screener | 12 | 1 | 8 | 8 | 8 | 1.1 | 4 | 4 | 8 | 0.5 | 1.6
Interview | 8 | 1 | 8 | 8 | 60 | 8.0 | 0 | 0 | 0 | 0.0 | 8.0
Pilot Study:
Email invitation | 83 | 1 | 30 | 30 | 2 | 1.0 | 53 | 53 | 2 | 1.8 | 2.8
Questionnaire | 30 | 1 | 30 | 30 | 20 | 10.0 | 0 | 0 | 0 | 0.0 | 10.0
Full-Scale Study:
Email invitation | 9,778 | 1 | 4,400 | 4,400 | 2 | 146.7 | 5,378 | 5,378 | 2 | 179.3 | 326.0
Questionnaire | 4,400 | 1 | 4,400 | 4,400 | 20 | 1,466.7 | 0 | 0 | 0 | 0.0 | 1,466.7
Total Burden | 9,873 |  |  |  |  | 1,633.5 |  |  |  | 181.6 | 1,815.1

Respondents: Consumers.

Estimated Number of Respondents: 9,873.

Estimated Number of Annual Responses per Respondent: 1.

Estimated Total Burden on Respondents: 1,815.1 hours.

All responses to this notice will be summarized and included in the request for OMB approval. All comments will also become a matter of public record. Copies of this information collection assessment can be obtained from Gina Kouba, Office of Policy and Program Development, Food Safety and Inspection Service, USDA, 1400 Independence Avenue SW, Mailstop 3758, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) fax: (202) 690-7442; or (3) email: program.intake@usda.gov. USDA is an equal opportunity provider, employer, and lender.

Paul Kiecker,
Administrator.

[FR Doc. 2022-02042 Filed 1-31-22; 8:45 am]

BILLING CODE 3410-DM-P